DEPARTMENT OF ENERGY

Federal Energy Regulatory Commission

[Project No. 10482-000]

Mirant NY-Gen LLC; Notice Rejecting Request for Rehearing

June 17, 2005.

On April 18, 2005, the Commission issued an order denying the licensee's application to amend the recreation plan for the Swinging Bridge Project No. 10482.¹ On May 16, 2005, the Woodstone Lakes Development, LLC (Woodstone Lakes) submitted a request for rehearing to the Director of the Division of Hydropower Administration and Compliance.

¹ Mirant NY-Gen LLC, 111 FERC ¶ 61,077. The proposed amendment would have closed a boat launch and expanded a recreation area.

Pursuant to section 313(a) of the Federal Power Act, 16 U.S.C. 825l(a), a request for rehearing may be filed only by a party to the proceeding. In order for Woodstone Lakes to be a party to the proceeding, it must have timely filed a motion to intervene pursuant to Rule 214 of the Rules of Practice and Procedure, 18 CFR 385.214.² Since Woodstone Lakes did not file a motion to intervene, its request for rehearing must be rejected.³

² See Pacific Gas and Electric Company, 40 FERC ¶ 61,035 (1987). Notice of the application in this proceeding was issued on November 5, 2004, setting December 6, 2004 as the deadline for filing interventions.

³ In addition, Woodstone Lakes did not file its request for rehearing with the Commission Secretary as required by Rule 2001 of the Commission's Rules of Practice and Procedure. 18 CFR 385.2001.

This notice constitutes final agency action. Request for rehearing by the Commission of this rejection notice must be filed within 30 days of the date of issuance of this notice, pursuant to 18 CFR 385.713.

Magalie R. Salas,
Secretary.

[FR Doc. E5-3292 Filed 6-23-05; 8:45 am]

BILLING CODE 6717-01-P